DEPARTMENT OF EDUCATION

President's Board of Advisors on Historically Black Colleges and Universities

AGENCY: President's Board of Advisors on Historically Black Colleges and Universities, Department of Education.

ACTION: Notice of an open meeting.

SUMMARY: This notice sets forth the schedule and agenda of the meeting of the President's Board of Advisors on Historically Black Colleges and Universities. This notice also describes the functions of the Board. Notice of this meeting is required by section 10(a)(2) of the Federal Advisory Committee Act and is intended to notify the public of its opportunity to attend.

Date: Monday, February 26, 2007.

Time: 9 a.m.-3 p.m.

Location: University of Arkansas at Pine Bluff, 1200 North University Drive, Childress Hall, Board Room, Pine Bluff, AR 71601, Phone: 870-575-8471, Fax: 870-575-4645.

FOR FURTHER INFORMATION CONTACT: Charles M. Greene, Executive Director, White House Initiative on Historically Black Colleges and Universities, 1990 K Street, NW., Washington, DC 20006; telephone: (202) 502-7511, fax: 202-502-7852.

SUPPLEMENTARY INFORMATION: The President's Board of Advisors on Historically Black Colleges and Universities is established under Executive Order 13256, dated February 12, 2002 and Executive Order 13316 dated September 17, 2003. The Board is established (a) To report to the President annually on the results of the participation of historically black colleges and universities (HBCUs) in Federal programs, including recommendations on how to increase the private sector role in strengthening these institutions, with particular emphasis given to enhancing institutional planning and development; strengthening fiscal stability and financial management; and improving institutional infrastructure, including the use of technology, to ensure the long-term viability and enhancement of these institutions; (b) to advise the President and the Secretary of Education (Secretary) on the needs of HBCUs in the areas of infrastructure, academic programs, and faculty and institutional development; (c) to advise the Secretary in the preparation of an annual Federal plan for assistance to HBCUs increasing their capacity to participate in Federal programs; (d) to provide the President with an annual progress report on enhancing the capacity of HBCUs to serve their students; and (e) to develop, in consultation with the Department of Education and other Federal agencies, a private sector strategy to assist HBCUs.

Agenda: The purpose of the meeting is to receive and deliberate on policy issues pertinent to the Board and the nation's HBCUs and to plan Board activities for 2007-08.

Additional Information: Individuals who will need accommodations for a disability in order to participate on the call (e.g., assistive listening devices, or material in alternative format) should notify ReShone Moore at (202) 502-7893, no later than Monday, February 19, 2007. We will attempt to meet requests for accommodations after this date, but, cannot guarantee their availability.

An opportunity for public comment is available on Monday, February 26, 2007 between 2:30 p.m.-3 p.m. Those members of the public interested in submitting written comments may do so by submitting it to the attention of Charles M. Green, 1990 K Street NW., Washington, DC, by Wednesday, February 21, 2007.

Records are kept of all Board proceedings and are available for public inspection at the office of the White House Initiative on Historically Black Colleges and Universities, U.S. Department of Education, 1990 K Street, NW., Washington, DC 20006, during the hours of 8 a.m. to 5 p.m. (EST).

James F. Manning,
Delegated the Authority of the Assistant Secretary, Office of Postsecondary Education, U.S. Department of Education.

[FR Doc. 07-469 Filed 2-2-07; 8:45 am]

BILLING CODE 4000-01-M